DEPARTMENT OF DEFENSE

Department of the Army, Corps of Engineers

Notice of Intent To Prepare a Draft Environmental Impact Statement (DEIS) for the Wilmington Harbor Navigation Improvement Project Integrated Feasibility Study and Environmental Report, New Hanover and Brunswick Counties, NC

AGENCY: U.S. Army Corps of Engineers, DoD.

ACTION: Notice of intent.

SUMMARY: The North Carolina State Ports Authority (NCSPA) has prepared a feasibility study and draft environmental report pursuant to Section 203 of Water Resources Development Act of 1986 (WRDA) that evaluates potential improvements to the Wilmington Harbor federal navigation channel in New Hanover and Brunswick Counties, North Carolina. On June 26th, 2019, the NCSPA submitted the study to the Assistant Secretary of the Army for Civil Works [ASA(CW)] for purposes of review and determining whether the study, and the process under which the study was developed, complies with Federal laws and regulations applicable to feasibility studies for potential water resources development projects. This notice advises the public that the U.S. Army Corps of Engineers (USACE), Wilmington District (Corps), at the direction of the ASA(CW), intends to prepare a Draft Environmental Impact Statement (DEIS) to support the ASA(CW) review of the NCSPA study. The Wilmington Harbor Navigation Improvement Project (WHNIP) DEIS is being prepared in accordance with the requirements of the National Environmental Policy Act (NEPA) of 1969, as amended.

DATES: The earliest the DEIS will be available for public review would be November 2019.

ADDRESSES: U.S. Army Engineer District, Wilmington; 69 Darlington Avenue, Wilmington, North Carolina 28403.

FOR FURTHER INFORMATION CONTACT: Questions about the proposed action and DEIS can be directed to Emily Hughes, Environmental Resources Section; U.S. Army Engineer District, Wilmington; 69 Darlington Avenue, Wilmington, North Carolina 28403; telephone: 910-251-4635; email: Emily.b.hughes@usace.army.mil.

SUPPLEMENTARY INFORMATION: (a) Background. The existing Wilmington Harbor federal navigation channel originates offshore and extends approximately 38 miles through the Atlantic Ocean and up the Cape Fear River to the City of Wilmington, NC where it services the Port of Wilmington. The existing project provides for a channel -44 feet Mean Lower Low Water (MLLW) through the ocean bar and entrance channel, changing to -42 feet (MLLW) extending to just downstream of the Cape Fear Memorial Bridge. The Port of Wilmington has experienced significant increases in cargo volume and in the size of vessels calling at the port since the last major channel improvements were completed by the USACE under the Wilmington Harbor 1996 WRDA Project. Due to expansion of the Panama Canal and navigation improvement projects at all other major U.S. East Coast ports, the U.S. East Coast to Asia shipping alliances are currently transitioning to vessels that are substantially larger and more economically efficient than the vessels that the -42-foot channel was designed to accommodate.

Currently authorized channel dimensions at Wilmington Harbor are impacting trade at the Port of Wilmington and are projected to have a greater detrimental impact on trade in the future as ocean carriers continue to transition to larger containerships.

Purpose. The purpose of the proposed project is to accommodate larger cargo vessels and improve the efficiency of cargo vessel operations at Wilmington Harbor and the Port of Wilmington. The proposed navigation improvements would enable the Port of Wilmington to continue as a port-of- call for shipping alliances with direct service to Asian markets.

(b) Alternatives. Structural and non-structural measures are being evaluated to meet planning objectives. Measures that contribute to meeting the planning objectives will be combined to develop alternative plans. Potential harbor improvements under consideration include deepening the existing federal navigational channel to the Port of Wilmington, extending the ocean entrance channel farther offshore, and widening channels in the Cape Fear River where needed. The range of depths being considered is from -44 feet to -48 feet. Under the No Action alternative, no improvements would be made to the Wilmington Harbor project.

(c) Environmental Impacts. Environmental impacts to be addressed in the DEIS include, but are not limited to: (1) Endangered and threatened species; (2) Marine and estuarine resources; (3) Beach and dune resources; (4) Fish and wildlife and their habitats; (5) Essential Fish Habitat (EFH); (6) Salinity and tidal amplitude; (7) Water quality; (8) Air quality; (9) Socioeconomic resources; (10) Cultural resources; (11) Groundwater; (12) Shoreline erosion; (13) Hazardous, Toxic, and Radioactive Waste (HTRW); (14) Noise; and (15) Socioeconomics.

(d) Scoping. All private parties and Federal, State, and local agencies having an interest in the study are invited to comment at this time. A scoping letter requesting comments on the study will be sent to all known interested parties. All interested parties will be invited to attend a public scoping meeting to be held in Wilmington, NC in September 2019. All comments received as a result of this NOI, the scoping letter, and the scoping meeting will be considered in the preparation of the DEIS.

(e) Authority. Studies of potential navigation improvements to the Wilmington Harbor navigation channel are being conducted under the authority granted by Section 203 of the Water Resources Development Act (WRDA) of 1986 (Pub. L. 99-662), as amended. Section 203 of WRDA 86, as amended, states:

Sec 203. Studies of Projects by Non-Federal Interests.

Public Law 99-662, Nov. 17, 1986. 33 U.S.C. 2231

(a) SUBMISSION TO SECRETARY.

(1) In general. A non-Federal interest may on its own undertake a feasibility study of a proposed water resources development project and submit the study to the Secretary.

(2) Guidelines. To assist non-Federal interests, the Secretary shall, as soon as practicable, issue guidelines for feasibility studies of water resources development projects to provide sufficient information for the formulation of studies.

(b) REVIEW BY SECRETARY—The Secretary shall review each feasibility study received under subsection (a) (1) for the purpose of determining whether or not the study, and the process under which the study was developed, each comply with Federal laws and regulations applicable to feasibility studies of water resources development projects.

(c) SUBMISSION TO CONGRESS—Not later than 180 days after the date of receipt of a feasibility study of a project under subsection (a)(1), the Secretary shall submit to the Committee on Environment and Public Works of the Senate and the Committee on Transportation and Infrastructure of the House of representatives a report that describes.

(1) The results of the Secretary's review of the study under subsection (b), Including a determination of whether the project is feasible;

(2) Any recommendations the Secretary may have concerning the plan or design of the project; and

(3) Any conditions the Secretary may require for construction of the project.

Dated: September 5, 2019.
R.D. James,
Assistant Secretary of the Army, (Civil Works).

[FR Doc. 2019-19742 Filed 9-11-19; 8:45 am]

BILLING CODE 3720-58-P